DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety regulations. The individual petition is described below, including the party seeking relief, the regulatory provisions involved, the nature of the relief being requested, and the petitioner's arguments in favor of relief.

Norfolk Southern Corporation (Docket Number FRA-2002-11896)

Norfolk Southern Corporation (NS) seeks to modify existing waiver FRA-2002-11896, which is a conditional waiver of compliance from certain provisions of the Safety Appliances Standards, 49 CFR part 231, and Power Brakes and Drawbars regulations, 49 CFR part 232, concerning the operation of RoadRailer equipment in Triple Crown Service over their railroad system. Specifically, NS requests that FRA modify the existing waiver to incorporate the use of the new “RoadRailer® Drawbar Connector” in its RoadRailer operations.

NS would like to undertake the introduction of the new “ RoadRailer Drawbar” technology in a two-phase program. In Phase I, NS would operate a limited commercial test of the Drawbar. The intent is to gain experience with the new technology under controlled conditions in order to refine operating techniques and to develop and provide additional data to the FRA to support the use of this technology on a permanent basis. NS envisions that such a test would run for a period of approximately 90 days using two train sets. Train #262 from Calumet (Chicago, Illinois) to Piqua (Ft. Wayne, Indiana), approximately 190 miles, and Train # 253, from Oakwood (Detroit, Michigan) to Piqua (Ft. Wayne, Indiana), approximately 185 miles. The drawbar would be installed/removed only in Triple Crown terminals by RoadRailer personnel using a forklift. All affected personnel would be trained and the training will be documented.

Upon satisfactory completion of Phase I, all of the data collected will be submitted to FRA's Railroad Safety Board for consideration of modifying waiver FRA-2002-11896 to permanently authorize use of the new Drawbar in all aspects across the NS Triple Crown system. NS would like FRA to grant approval to operate the equipment, to include the following aspects: (1) The use of the drawbar to permit bi-directional operation of RoadRailer equipment in main-line service; (2) the use of the drawbar to permit the addition/subtraction of blocks of RoadRailer trailers at intermediate locations using the train crew, provided that the block is equipped with knuckle couplers at each end of the block; (3) removal of the restriction against backing RoadRailer equipment, provided that the backing move is protected by a CouplerMate bogie at the rear, that is equipped with appropriate safety appliances. Thus, Phase II would begin only if FRA approves the modification of the existing waiver.

NS requests the following amendments to the existing waiver: (1) Modify condition #8 to include the following exception: “RoadRailer units in blocks containing a drawbar connector and having standard couplers on both ends of the block have no restrictions on where the blocks may be picked-up or set-out”; (2) Modify condition #12 with the insertion of the word “shove”; where “reverse movement” would become “reverse shove movement”; (3) reset the five-year expiration date on condition # 27; and (4) insert a new condition to permit the use of the RoadRailer drawbar for bi-directional operation of RoadRailer equipment.

Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition Docket Number FRA-2002-11896) and must be submitted in triplicate to the Docket Clerk, DOT Central Docket Management Facility, Room PL-401, Washington, DC, 20590-0001. Communications received within 30 days of the date of this notice will be considered by FRA before final action is taken. Comments received after that date will be considered as far as practicable. All written communications concerning these proceedings are available for examination during regular business hours (9 a.m.-5 p.m.) at DOT Central Docket Management Facility, Room PL-401 (Plaza Level), 400 Seventh Street, SW., Washington, DC. All documents in the public docket are also available for inspection and copying on the Internet at the docket facility's Web site at http://dms.dot.gov.

Issued in Washington, DC, on April 14, 2003.
Grady C. Cothen, Jr.,
Deputy Associate Administrator for Safety Standards and Program Development.

[FR Doc. 03-9721 Filed 4-18-03; 8:45 am]

BILLING CODE 4910-06-P